SECURITIES AND EXCHANGE COMMISSION

[File No. 500-1]

In the Matter of Aspire Japan, Inc., Market & Research Corp. (n/k/a MRC Group Ltd.), McIntosh Bancshares Inc., Pure Minerals, Inc. (f/k/a Pure Pharmaceuticals Corp.) and Salamon Group, Inc.; Order of Suspension of Trading

June 26, 2015.

It appears to the Securities and Exchange Commission that there is a lack of current and accurate information concerning the securities of Aspire Japan, Inc. (CIK No. 1317838) (“ASJP” ¹), a void Delaware corporation with its principal place of business in Los Angeles, California, with stock quoted on OTC Link (previously, “Pink Sheets”) operated by OTC Markets Group Inc. (“OTC Link”) because it has not filed any periodic reports since the period ended April 30, 2011. On June 26, 2013, the Division of Corporation Finance (“Corporation Finance”) sent a delinquency letter to ASJP requesting compliance with its periodic reporting obligations at the address shown in its then-most recent filing with the Commission, but ASJP did not receive the delinquency letter due to its failure to maintain a valid address on file with the Commission as required by Commission rules (Rule 301 of Regulation S-T, 17 CFR 232.301 and Section 5.4 of the EDGAR Filer Manual).

¹ The short form of each issuer's name is also its ticker symbol.

It appears to the Securities and Exchange Commission that there is a lack of current and accurate information concerning the securities of Market & Research Corp. (n/k/a MRC Group Ltd. (CIK No.) 1009830) (“MTRE”), a void Delaware corporation with its principal place of business in Westport, Connecticut, with stock quoted on OTC Link, because it has not filed any periodic reports since the period ended June 30, 2010. On April 29, 2013, Corporation Finance sent a delinquency letter to MTRE requesting compliance with its periodic reporting obligations at the address shown in its then-most recent filing with the Commission, but MTRE did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of McIntosh Bancshares Inc. (CIK No. 872545) (“MITB”), a Georgia corporation with its principal place of business in Jackson, Georgia, with stock quoted on OTC Link, because it has not filed any periodic reports since the period ended September 30, 2010. On April 29, 2013, Corporation Finance sent a delinquency letter to MITB requesting compliance with its periodic reporting obligations at the address shown in its then-most recent filing with the Commission, but MITB did not receive the delinquency letter due to its failure to maintain a valid address on file with the Commission as required by Commission rules (Rule 301 of Regulation S-T, 17 CFR 232.301 and Section 5.4 of the EDGAR Filer Manual).

It appears to the Securities and Exchange Commission that there is a lack of current and accurate information concerning the securities of Pure Minerals, Inc. (f/k/a Pure Pharmaceuticals Corp.) (CIK No. 1364326) (“PPMA”), a revoked Nevada corporation with its principal place of business in Montreal, Quebec, Canada, with stock quoted on OTC Link, because it has not filed any periodic reports since the period ended December 31, 2010. On June 25, 2013, Corporation Finance sent a delinquency letter to PPMA requesting compliance with its periodic reporting obligations at the address shown in its then-most recent filing with the Commission which was delivered.

It appears to the Securities and Exchange Commission that there is a lack of current and accurate information concerning the securities of Salamon Group, Inc. (CIK No. 1274211) (“SLMU”), a revoked Nevada corporation with its principal place of business in Kelowna, British Columbia, with stock quoted on OTC Link because it has not filed any periodic reports since the period ended June 30, 2012. On September 16, 2014, Corporation Finance sent a delinquency letter to SLMU requesting compliance with its periodic reporting obligations at the address shown in its then-most recent filing with the Commission, but SLMU did not receive the delinquency letter due to its failure to maintain a valid address on file with the Commission as required by Commission rules (Rule 301 of Regulation S-T, 17 CFR 232.301 and Section 5.4 of the EDGAR Filer Manual).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 26, 2015, through 11:59 p.m. EDT on July 10, 2015.

By the Commission.
Jill M. Peterson,
Assistant Secretary.

[FR Doc. 2015-16148 Filed 6-26-15; 4:15 pm]

BILLING CODE 8011-01-P